DEPARTMENT OF TRANSPORTATION

Federal Aviation Administration

Aviation Rulemaking Advisory Committee Meeting

AGENCY: Federal Aviation Administration (FAA), DOT.

ACTION: Notice of public meeting.

SUMMARY: This notice announces a public meeting of the FAA's Aviation Rulemaking Advisory Committee to discuss rotorcraft issues.

DATES: The meeting will be held on August 8, 2000, 2:00 p.m. EST.

ADDRESSES: The meeting will be held at Helicopter Association International, 1635 Prince St, Alexandria VA, 22314, telephone (703) 682-4646.

FOR FURTHER INFORMATION CONTACT: Angela Anderson, Office of Rulemaking, ARM-200, FAA, 800 Independence Avenue, SW, Washington, DC 20591, telephone (202) 267-9681.

SUPPLEMENTARY INFORMATION: The referenced meeting is announced pursuant to Section 10(a)(2) of the Federal Advisory Committee Act (Pub. L. 92-463; 5 U.S.C. App. II).

The agenda will include:

Presentation of work plans for the following:

a. Damage Tolerance and Fatigue Evaluation of Composite Rotorcraft Structure.

b. Damage Tolerance and Fatigue Evaluation of Metallic Rotorcraft Structure.

Presentation and vote on the NPRM from the Performance and Handling Qualities working group.

Attendance is open to the public but will be limited to the space available. The public must make arrangements to present oral statements at the meeting. Written statements may be presented to the committee at any time by providing 16 copies to the Assistant Chair or by providing the copies at the meeting. If you are in need of assistance or require a reasonable accommodation for the meeting, please contact the person listed under the heading FOR FURTHER INFORMATION CONTACT. In addition, sign and oral interpretation, as well as a listening device, can be made available at the meeting if requested 10 calendar days before the meeting. Arrangements may be made by contacting the person listed under the heading FOR FURTHER INFORMATION CONTACT.

Issued in Washington, DC, on July 18, 2000.
Anthony F. Fazio,
Assistant Executive Director, Aviation Rulemaking Advisory Committee.

[FR Doc. 00-18686 Filed 7-24-00; 8:45 am]

BILLING CODE 4910-13-M